FEDERAL COMMUNICATIONS COMMISSION

47 CFR Part 73

[DA 06-1004; MB Docket No. 05-166, RM-11228]

Radio Broadcasting Services; McAlester, Okemah, and Wilburton, OK

AGENCY: Federal Communications Commission.

ACTION: Final rule.

SUMMARY: The staff grants a rulemaking petition jointly filed by Little Dixie Radio, Inc., KESC Enterprises, Inc., and Southeastern Oklahoma Radio, LLC, to reallot and change the community of license for Station KESC(FM) from Channel 279C1 at Wilburton to Channel 279C1 at Okemah, Oklahoma, as a first local service. To prevent the removal of the sole local aural service at Wilburton, the staff approved the “back-fill” reallotment and change of community for Station KMCO(FM) from Channel 267C1 at McAlester, Oklahoma, to Channel 267C1 at Wilburton, Oklahoma. With this action, the proceeding is terminated.

DATES: Effective June 26, 2006.

FOR FURTHER INFORMATION CONTACT: Andrew J. Rhodes, Media Bureau, (202) 418-2180.

SUPPLEMENTARY INFORMATION: This is a synopsis of the Commission's Report and Order, MM Docket No. 05-166, adopted May 10, 2006, and released May 12, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. The Commission will send a copy of the Report and Order in this proceeding in a report to be sent to Congress and the Government Accountability Office pursuant to the Congressional Review Act, see 5 U.S.C. 801(a)(1)(A).

The reference coordinates for Channel 279C1 at Okemah are 35-14-22 NL and 96-18-48 WL. Station KMCO(FM) is not changing its transmitter site. The reference coordinates for Channel 267C1 at Wilburton are 34-59-13 NL and 95-42-10 WL. The staff also denied objections filed by Maryellen Mooney and Doncie Campagna. In denying these objections, the staff held that the “back-fill” reallotment of Channel 267C1 at Wilburton will be an adequate substitute for Channel 279C1 from a technical standpoint.

List of Subjects in 47 CFR Part 73

Radio, Radio broadcasting.

As stated in the preamble, the Federal Communications Commission amends 47 CFR part 73 as follows:

PART 73—RADIO BROADCAST SERVICES

1. The authority for part 73 continues to read as follows:

Authority: 47 U.S.C. 154, 303, 334, 336.

§ 73.202 [Amended]

2. Section 73.202(b), the Table of FM Allotments under Oklahoma, is amended by removing Channel 267C1 at McAlester, by adding Okemah, Channel 279C1, and by removing Channel 279C1 and adding Channel 267C1 at Wilburton.

Federal Communications Commission.
John A. Karousos,
Assistant Chief, Audio Division, Media Bureau.

[FR Doc. E6-8149 Filed 5-30-06; 8:45 am]

BILLING CODE 6712-01-P